DEPARTMENT OF COMMERCE

National Institute of Standards and Technology

Establishment of a Team Under the National Construction Safety Team Act

AGENCY: National Institute of Standards and Technology, Department of Commerce.

ACTION: Notice.

SUMMARY: The Director of the National Institute of Standards and Technology (NIST), United States Department of Commerce, announces the establishment of a National Construction Safety Team pursuant to the National Construction Safety Team Act. The Team was established to study building performance and emergency response and evacuation during Hurricane Maria, which made landfall in the U.S. territory of Puerto Rico on September 20, 2017.

DATES: The National Construction Safety Team was established on February 21, 2018.

ADDRESSES: Dr. Howard Harary, Engineering Laboratory, National Institute of Standards and Technology, Mail Stop 8600, Gaithersburg, MD 20899-8600, telephone number (301) 975-5900. Members of the public are encouraged to submit to the Team non-privileged evidence that is relevant to the subject matter of the NIST investigation described in this notice. Such evidence may be submitted to the address contained in this section. Confidential information will only be accepted pursuant to an appropriate nondisclosure agreement.

FOR FURTHER INFORMATION CONTACT: Dr. Howard Harary, Engineering Laboratory, National Institute of Standards and Technology, Mail Stop 8600, Gaithersburg, MD 20899-8600, telephone number (301) 975-5900.

SUPPLEMENTARY INFORMATION: Background: The National Construction Safety Team Act (“Act”), Public Law 107-231, codified at 15 U.S.C. 7301 et seq., was enacted to provide for the establishment of investigative teams (“Teams”) to assess building performance and emergency response and evacuation procedures in the wake of any building failure that has resulted in substantial loss of life or that posed significant potential of substantial loss of life. The purpose of investigations by Teams is to improve the safety and structural integrity of buildings in the United States. As stated in the statute, a Team shall (1) establish the likely technical cause or causes of the building failure; (2) evaluate the technical aspects of evacuation and emergency response procedures; (3) recommend, as necessary, specific improvements to building standards, codes, and practices based on the findings made pursuant to (1) and (2); and recommend any research and other appropriate actions needed to improve the structural safety of buildings, and improve evacuation and emergency response procedures, based on the findings of the investigation. In addition, NIST has promulgated regulations implementing the Act. The regulations are found at 15 CFR part 270.

NIST sent a preliminary reconnaissance team to collect information and data related to the hurricane that made landfall in the U.S. territory of Puerto Rico on September 20, 2017. Based on the recommendations of the preliminary reconnaissance team and evaluation of the criteria listed in the regulations implementing the Act, specifically in 15 CFR 270.102, on February 28, 2018, the Director of the National Institute of Standards and Technology (NIST), United States Department of Commerce, established a Team to study building performance and emergency response and evacuation during Hurricane Maria. The Team may include members who are Federal employees and members who are not Federal employees. Team members who are Federal employees are governed by the Federal conflict of interest laws. Team members who are not Federal employees will be Federal government contractors, and conflicts of interest related to their service on the Team will be governed by FAR Subpart 9.5, Organizational and Consultant Conflicts of Interest, which will be incorporated by reference into all such contracts.

Members of the public are encouraged to submit to the Team non-privileged data and artifacts that are relevant to the subject matter of the NIST investigation described in this notice. Such data and artifacts may be submitted to the address contained in the ADDRESSES section of this notice. Confidential information will only be accepted pursuant to an appropriate nondisclosure agreement.

Authority: 15 U.S.C. 7301 et seq., 15 CFR part 270.

Kevin Kimball,
NIST Chief of Staff.

[FR Doc. 2018-04085 Filed 2-27-18; 8:45 am]

BILLING CODE 3510-13-P